DEPARTMENT OF DEFENSE

Office of the Secretary

Establishment of the Defense Finance and Accounting Service (DFAS) Board of Advisors

ACTION: Notice of establishment.

SUMMARY: The DFAS Board of Advisors is being established in consonance with the public interest and in accordance with the provisions of Pub. L. 92-463, the “Federal Advisory Committee Act,” Title 5 U.S.C., Appendix 2.

This advisory committee will provide advice and recommendations to the Secretary of Defense and Deputy Secretary of Defense regarding the streamlining and modernization of DFAS as it transforms its financial management operations, processes and systems. Goals include making the organization as effective and economical as feasible, responsive to the needs of decision makers, compliant with statutes, safeguarded against fraud and abuse and a leader in customer service. The Board will make recommendations concerning the best allocation and expenditure of funds and the speed and shape of DFAS reform.

The DFAS Board of Advisors will consist of a balanced membership of approximately ten senior executives and flag rank military officers, as well as several representatives from the private sector appointed by the Secretary of Defense.

FOR FURTHER INFORMATION CONTACT: John S. Mester, DFAS General Counsel, 703-607-5021.

Dated: September 12, 2000.
L.M. Bynum,
OSD Federal Register Liaison Officer, Department of Defense.

[FR Doc. 00-23992 Filed 9-18-00; 8:45 am]

BILLING CODE 5001-10-M